ENVIRONMENTAL PROTECTION AGENCY

[FRL-6560-9]

Agency Information Collection Activities: Continuing Collection; Comment Request; Request for Information for the Bioremediation Field Initiative Database System

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Request for Information for the Bioremediation Field Initiative Database Systems, EPA ICR No. 1672.03, OMB Control No. 2080-0048, expires 05/31/2000. Before submitting the ICR to OMB for review and approval, EPA is soliciting comments on specific aspects of the proposed information collection as described below.

DATES: Comments must be submitted on or before May 15, 2000.

ADDRESSES: Office of Research and Development, Technology Transfer and Support Division, National Risk Management Research Laboratory, 26 West Martin Luther King Drive (Mailstop G75), Cincinnati, OH 45268.

FOR FURTHER INFORMATION CONTACT: Fran Kremer, ph: 513-569-7346, fax: 513-569-7620, email: kremer.fran@epa.gov.

SUPPLEMENTARY INFORMATION: Affected entities: Entities potentially affected by this action are those that are involved in the use of innovative technologies at Superfund sites, such as state and local governments, businesses, and nonprofit institutions.

Title: Request for Information for the Bioremediation Field Initiative Database System, OMB Control No. 2080-0048, expires 05/31/2000.

Abstract: This is an ICR renewal for gathering information on the design, operation, and performance of biological treatment technologies from remediation experts and managers working at sites where biological treatment technologies are being tested or implemented. The authority for collecting information on innovative treatment technologies is described at Section 311 of the Superfund Amendments and Reauthorization Act, Section 8003 of the Resource Conservation and Recovery Act, Section 7001 of the Oil Pollution Act, and Section 10 of the Toxic Substance Control Act. Response to the collection of information is voluntary. The information will help the EPA to deploy innovative technologies more quickly at Superfund and other sites.

Selected respondents are asked to complete and return, via mail, a two-part questionnaire. The first part requests general site information, such as location, contacts, contaminants, and legislative authority under which the site is being remediated. The second part requests site-specific biotechnology information, such as the stage of the operation, wastes and media being treated, cleanup level goals, and the performance and cost of the treatment. Again, all responses are strictly voluntary. Following the initial questionnaire, respondents receive followup questionnaires on a semi-annual basis to update the information already provided. EPA has developed an easy-to-use PC-based version of the questionnaire that is currently in use. To run the electronic questionnaire, the user must have access to a Windows-capable IBM-compatible PC, preferably 486-class or better. The PC questionnaire has several benefits:

• Questions that apply only under particular circumstances (i.e., are dependent on previous responses) are only presented to the user as necessary.

• Data validations are performed optionally as the user is filling out the questionnaire and are required when a respondent is ready to submit the data to EPA. Data validation conditions are reported with an explanation of the problem/situation and recommended corrective action(s).

• Pick lists are provided for several questions, so that users may choose an item from a list rather than enter the full text using the keyboard.

Respondents may utilize either the paper- or the PC-based questionnaire, which ever they prefer. In each case, when respondents are updating the site records for sites that are already in the Bioremediation Field Initiative database, the questionnaire shows the site's complete responses from past questionnaires, so that information that has not changed need not be reentered. Respondents with access to the Internet may express comments or request assistance using an e-mail account that is identified in each questionnaire mailing. Each form of the questionnaire is updated occasionally between data collection cycles to include prominent new technologies and contaminants as they are identified in prior collection efforts. A Web-based version of the questionnaire with essentially the same features as the PC-based version is in development.

EPA compiles information from completed questionnaires into the Bioremediation Field Initiative computer database. EPA developed a software program called the Bioremediation in the Field Search System (BFSS) to search, view, and report information in the database. Recently, EPA re-engineered this software into a Web-enabled application, making the BFSS data available to the public for online searching.

Each site in the database includes contact information for one or more individuals associated with the regulatory authority or application of bioremediation technology at the site. Remediation professionals may contact individuals with common site conditions to share information. Summary statistics may be drawn from the database to elucidate trends in bioremediation.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The following burden figures are taken from the currently approved ICR:

Respondent type | Burden hours
First-time respondents | 5.0
Update respondents | 1.0
No-change respondents | 0.5
Nonrespondents | 0.25
Total | 6.75

Respondent type | Respondents: Period one | Respondents: Period two | Respondents: Yearly
First-time respondents | 50 | 50 | 100
Update respondents | 449 | 482 | 931
No-change respondents | 129 | 139 | 268
Nonrespondents | 102 | 110 | 212
Total | 730 | 781 | 1511

(First-time respondents fill out a questionnaire for the first time, entering data for a site not previously included in the Bioremediation Field Initiative database. Update respondents receive a questionnaire containing the current record of site data in the Bioremediation Field Initiative database and enter information to make the information current. No-change respondents receive a questionnaire containing the current record of site data in the Bioremediation Field Initiative database, review the information and find that it is current; therefore, they need not modify information to make the site current. Nonrespondents receive the questionnaire, review it, and elect not to respond.)

The cost per hour of respondent time is estimated as $52 for management personnel, $45 for technical personnel, and $32 for clerical personnel, based on recent labor rates.

Annual respondent burdens are calculated as follows:

• In period one, up to 730 respondents will be sent questionnaires. Of these, 50 first-time respondents will take 5 hours each to complete the questionnaire. All of the 578 previously submitted questionnaires will be mailed out for updates, 449 respondents will update the questionnaire (1 hour), 129 respondents will review their data and return the questionnaire indicating that the data have not changed (0.5 hour), and 102 respondents will not return the questionnaire (0.25 hour).

PERIOD ONE HOURS:
Hours Total * No. of Respondents
First-time Respondents | 5.00 | * | 50 | = | 250
No. Updating Respondents | 1.00 | * | 449 | = | 449
No. No Change Respondents | 0.50 | * | 129 | = | D65
Nonrespondents | 0.25 | * | 102 | = | 26
Total Period Burden (Hours) |  |  |  |  | 790
PERIOD ONE COSTS:
Cost Total * No. of Respondents
First-time Respondents | $210.75 | * | 50 | = | $10,538
No. Updating Respondents | 43.38 | * | 449 | = | 19,478
No. No-Change Respondents | 20.88 | * | 129 | = | 2,694
Nonrespondents | 12.13 | * | 102 | = | 1,237
Total Period Cost |  |  |  |  | 33,947

• In period two, up to 781 respondents will be sent questionnaires. Of these, 50 first-time respondents will take 5 hours each to complete the questionnaire. All of the 628 previously submitted questionnaires will be mailed out for updates, 482 respondents will update the questionnaire (1 hour), 139 respondents will review their data and return the questionnaire indicating that the data have not changed (0.5 hour), and 110 respondents will not return the questionnaire (0.25 hour).

PERIOD TWO HOURS:
Hours Total * No. of Respondents
First-time Respondents | 5.00 | * | 50 | = | 250
Updating Respondents | 1.00 | * | 482 | = | 482
No-Change Respondents | 0.50 | * | 139 | = | 70
Nonrespondents | 0.25 | * | 110 | = | 28
Total Period Burden (Hours) |  |  |  |  | 830
PERIOD TWO COSTS:
Cost Total * No. of Respondents
First-time Respondents | $210.00 | * | 50 | = | $10,538
Updating Respondents | 43.38 | * | 482 | = | 20,909
No-Change Respondents | 20.88 | * | 139 | = | 2,902
Nonrespondents | 12.13 | * | 110 | = | 1,334
Total Period Cost |  |  |  |  | 35,683

Based on these estimates, the annual respondents' burden is projected as follows:

| Hours | Cost
Period One | 790 | $33,947
Period Two | 830 | 35,683
Total | 1,620 | 69,630

EPA's experience to this point indicates that, in most cases, the paperwork burden associated with completing the questionnaire is essentially the same regardless of whether the respondent is using the paper or the electronic version. A general, indirect efficiency advantage for respondents using the electronic version is that the software application's data validation function (described above) is likely to reduce the need for callbacks from EPA concerning incomplete or nonstandard data. (This also will be true for the Web-based version of the questionnaire when it is deployed.) The most significant efficiencies associated with use of the electronic version would accrue to the relatively small percentage of respondents who provide information for numerous sites. An important benefit of the electronic version not related to the respondents' paperwork burden is that collected site data can be more efficiently added to the computer database.

Each year, the burden figures increase somewhat, as first-time respondents are added to the database. In subsequent years, first-time respondents will be divided among the other respondent types. This growth is offset slightly as sites are removed from the data collection cycle—most typically if the site activity is completed, but for other reasons as well.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: February 29, 2000.
Robert A. Olexsey,
Director, Land Remediation and Pollution Control Division.

[FR Doc. 00-6394 Filed 3-14-00; 8:45 am]

BILLING CODE 6560-50-P